DEPARTMENT OF HEALTH AND HUMAN SERVICES

Centers for Medicare & Medicaid Services

[Document Identifier: CMS-10230]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: PACE Audit Guide Version 1; Use: CMS conducts a comprehensive annual on-site review of Programs of All-Inclusive Care for the Elderly (PACE) program provider operations in order to assure contract compliance during the first three years (the trail period) with CMS and the State administering agency. Onsite monitoring continues at least every 2 years after the first 3-year trial period ends. The purpose of the guide is oversight, monitoring, compliance and auditing of the activities necessary to ensure quality provision of the Medicare Parts A, B and D benefits to beneficiaries. Form Number: CMS-10230 (OMB#: 0938-New); Frequency: Yearly; Affected Public: Private sector—Business or other for-profit and Not-for-profit institutions; Number of Respondents: 22; Total Annual Responses: 22; Total Annual Hours: 6,336.

To obtain copies of the supporting statement and any related forms for the proposed paperwork collections referenced above, access CMS' Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on January 15, 2008. CMS, Office of Strategic Operations and Regulatory Affairs, Division of Regulations Development-C, Attention: Bonnie L Harkless, Room C4-26-05, 7500 Security Boulevard, Baltimore, Maryland 21244-1850.

Dated: November 8, 2007.
Michelle Shortt,
Director, Regulations Development Group, Office of Strategic Operations and Regulatory Affairs.

[FR Doc. E7-22255 Filed 11-15-07; 8:45 am]

BILLING CODE 4120-01-P